NUCLEAR REGULATORY COMMISSION

Advisory Committee on the Medical Uses of Isotopes: Meeting Notice

AGENCY: U.S. Nuclear Regulatory Commission.

ACTION: Notice of meeting.

SUMMARY: NRC will convene a meeting of the Advisory Committee on the Medical Uses of Isotopes (ACMUI) on October 19-20, 2009. A sample of agenda items to be discussed during the public session includes: (1) International Commission on Radiological Protection (ICRP) Publication103 subcommittee report and discussion; (2) update on permanent prostate brachytherapy medical events; (3) update on results from the Society of Nuclear Medicine (SNM) on the medical isotope shortage; (4) new security regulations in 10 Code of Federal Regulations (CFR) part 37; (5) potential changes to 10 CFR part 35; (6) medical uses of radium-223; (7) information on the regulatory responsibilities of the U.S. Food and Drug Administration; (8) summary of the enforcement process and enforcement actions against medical licensees; and (9) medical-related events. A copy of the agenda will be available at http://www.nrc.gov/reading-rm/doc-collections/acmui/agenda or by e-mailing Ms. Ashley Cockerham at the contact information below.

Purpose: Discuss issues related to 10 CFR part 35 Medical Use of Byproduct Material.

Date and Time for Closed Session: October 19, 2009, from 8 a.m. to 10 a.m. This session will be closed so that ACMUI can review and discuss evaluations, receive annual training, and discuss internal Committee business.

Date and Time for Open Sessions: October 19, 2009, from 10:15 a.m. to 4:45 p.m. and October 20, 2009, from 8 a.m. to 12 p.m.

Address for Public Meeting: U.S. Nuclear Regulatory Commission, Executive Boulevard Building (EBB01-B13/15), 6003 Executive Boulevard, Rockville, Maryland 20852.

Public Participation: Any member of the public who wishes to participate in the meeting should contact Ms. Cockerham using the information below.

Contact Information: Ashley M. Cockerham, e-mail: ashley.cockerham@nrc.gov, telephone: (240) 888-7129.

Conduct of the Meeting

Leon S. Malmud, M.D., will chair the meeting. Dr. Malmud will conduct the meeting in a manner that will facilitate the orderly conduct of business. The following procedures apply to public participation in the meeting:

1. Persons who wish to provide a written statement should submit an electronic copy to Ms. Cockerham at the contact information listed above. All submittals must be received by October 9, 2009, and must pertain to the topic on the agenda for the meeting.

2. Questions and comments from members of the public will be permitted during the meeting, at the discretion of the Chairman.

3. The draft transcript will be available on ACMUI's Web site (http://www.nrc.gov/reading-rm/doc-collections/acmui/tr/) on or about November 23, 2009. A meeting summary will be available on ACMUI's Web site (http://www.nrc.gov/reading-rm/doc-collections/acmui/meeting-summaries/) on or about December 2, 2009.

4. Persons who require special services, such as those for the hearing impaired, should notify Ms. Cockerham of their planned attendance.

This meeting will be held in accordance with the Atomic Energy Act of 1954, as amended (primarily section 161a); the Federal Advisory Committee Act (5 U.S.C. App); and the Commission's regulations in Title 10, U.S. Code of Federal Regulations, part 7.

Dated: September 16, 2009.
Andrew L. Bates,
Advisory Committee Management Officer.

[FR Doc. E9-22599 Filed 9-18-09; 8:45 am]

BILLING CODE 7590-01-P